DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 11, 2022.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 6, 2022.
Donald P. Burger,
Chief, General Approvals and Permits Branch.

Application No. | Applicant | Regulation(s) affected | Nature of the special permits thereof
SPECIAL PERMITS DATA—Granted
9221-M | Applied Pressure Vessels, Inc | 173.302a(a) | To modify the special permit to authorize an additional cylinder.
10814-M | Spellman High Voltage Electronics Corporation | 173.302a | To modify the special permit to update the reference drawings in the special permit.
13220-M | Entegris, Inc | 173.302, 173.302c, 180.205(d) | To modify the special permit to authorize disposal of cylinders.
14163-M | Linde Gas & Equipment Inc | 173.301(g)(1)(ii) | To modify the special permit to authorize DOT specification 3AL cylinders.
15097-M | Consumer Product Safety Commission, United States | 172.320, 173.56 | To modify the special permit to authorize an additional destination.
16165-M | HRD Aero Systems, Inc | 173.302(a), 173.56(b) | To modify the special permit to increase the maximum aluminum content to 6.75%.
20356-M | Tesla, Inc. | 172.101(j) | To modify the special permit to authorize additional lithium ion batteries.
20493-M | Tesla, Inc | 172.101(j) | To modify the special permit to include an additional cell type within the authorized lithium ion batteries.
20602-M | The Boeing Company | 173.56(b), 173.62, 173.185(a), 173.185(b), 173.201, 173.302(a), 173.304(a), 177.848(d), 173.203 | To modify the special permit to authorize additional hazardous materials.
20881-M | Arkema Inc | 172.102(c)(7), 173.201(c) | To modify the special permit to authorize additional tanks.
20976-M | The National Reconnaissance Office | 173.185(a)(1) | To modify the special permit to authorize two spacecraft to be transported together.
21306-N | Collins Aerospace | 173.302(f)(3), 173.302(f)(4), 173.302(f)(5), 173.309(c)(5) | To authorize the transportation in commerce of certain Division 2.2 gases in alternative packaging by aircraft.
21318-N | Mercedes-Benz AG | 172.101(j), 173.185(b)(1) | To authorize the transportation in commerce of lithium batteries exceeding 35 kg by cargo-only aircraft.
21334-N | Pactec, Inc | 173.12(b)(2)(i) | To authorize the manufacture, mark, sale, and use of certain UN13H4 woven plastic, coated, and with liner Flexible Intermediate Bulk Containers (IBC) for use as the outer packaging in a combination packaging for liquids or solids lab packs in accordance with 49 CFR 173.12(b)(2)(i).
21342-N | Ultium Cells LLC | 173.185(b)(3)(ii), 173.185(b)(6) | To authorize the transportation in commerce of multiple lithium ion cells packaged within a rigid Large UN packaging by highway and rail.
21350-N | The National Reconnaissance Office | 173.185(a)(1) | To authorize the transportation in commerce of a low production lithium battery contained in equipment (spacecraft).
21351-N | Bolloré Logistics Germany Gmbh | 172.101(j), 172.300, 172.400, 173.301(f)(1), 173.302a(a)(1), 173.185(a)(1) | To authorize the transportation in commerce of specially designed non-DOT specification in which prototype and low production lithium ion batteries contained in equipment (spacecraft) that have not completed all UN tests and exceed 35 kg net weight by cargo-only aircraft and articles containing non-flammable, toxic gas, n.o.s. (contains ammonia, anhydrous) within the equipment are being shipped for use in specialty applications.
21358-N | Hornady Manufacturing Company | 172.300, 172.400, 173.24(f)(1), 173.62(c) | To authorize the transportation in commerce of “Cartridges, small arms” and “Cartridges, small arms, blank” in non-DOT specification packagings, with and without closures, and without being required to be marked and labeled.
21368-N | Linde Gmbh | 178.338-2(a) | To authorize the manufacture, mark, sale, and use of DOT MC-338 specification cargo tanks fabricated using stainless steel not authorized in § 178.338-2(a) as a material of construction.
21371-N | Korean Air Lines Co., Ltd | 172.101(j), 173.27(b)(2), 173.27(b)(3), 175.30(a)(1) | To authorize the transportation in commerce of explosives by cargo aircraft which is forbidden in the regulations.
21375-N | PTSI Managed Services Inc | 172.101(j) | To authorize the transportation in commerce of lithium batteries by cargo only aircraft which exceed the 35 kg limit.
21386-N | Sun Chemical Corporation | 172.301(c), 173.24(d)(1) | To authorize the transportation in commerce of the hazardous materials in paragraph 6. in 5M2 multi-wall water-resistant paper bags that are marked 5M2W.
SPECIAL PERMITS DATA—Denied
SPECIAL PERMITS DATA—Withdrawn
21388-N | Department of Defense US Army Military Surface Deployment & Distribution Command | 173.185(e) | To authorize the transportation in commerce of prototype and low production lithium cells and batteries in alternative packaging
21398-N | Sonnen Inc | 173.185(b)(5) | To authorize the transportation commerce of lithium batteries aboard cargo-only aircraft.

[FR Doc. 2022-14776 Filed 7-11-22; 8:45 am]

BILLING CODE P